ENVIRONMENTAL PROTECTION AGENCY

40 CFR Part 63

[FRL-7410-1]

National Emission Standards for Chromium Emissions From Hard and Decorative Chromium Electroplating and Chromium Anodizing Tanks

AGENCY: Environmental Protection Agency (EPA).

ACTION: Proposed rule amendments; reopening of public comment period.

SUMMARY: The EPA is announcing the reopening of the public comment period on the proposed amendments to the national emission standards for hazardous air pollutants (NESHAP) for Chromium Emissions from Hard and Decorative Chromium Electroplating and Chromium Anodizing Tanks. We originally requested comments on the proposed rule amendments by August 5, 2002 (67 FR 38809, June 5, 2002). We are reopening the comment period and extending the deadline for written comments to January 21, 2003, because pertinent information related to the proposed rule amendments was not submitted to the docket and thus not available for inspection prior to August 1, 2002.

DATES: Comments. Submit comments on or before January 21, 2003.

ADDRESSES: Comments. By U.S. Postal Service, send comments (in duplicate if possible) to: Air and Radiation Docket and Information Center (6102), Attention Docket Number A-88-02, U.S. EPA, 1200 Pennsylvania Avenue, NW., Washington, DC 20460. In person or by courier, deliver comments (in duplicate if possible) to: Air and Radiation Docket and Information Center (6102T), Attention Docket Number A-88-02, Room Number Bl08, U.S. EPA, 1301 Constitution Avenue, NW., Washington, DC 20460. The EPA requests a separate copy also be sent to the contact person listed in the FOR FURTHER INFORMATION CONTACT section. Comments may be submitted by electronic mail (e-mail) to: a-and-r-docket@epa.gov. Comments submitted by e-mail must be submitted as an ASCII file to avoid the use of special characters and encryption problems. Comments will also be accepted on disks in WordPerfect file format. All comments and data submitted in electronic form must be identified by the docket number A-88-02. No confidential business information (CBI) should be submitted by e-mail. Electronic comments may be filed online at many Federal Depository Libraries.

Commenters wishing to submit proprietary information for consideration must clearly distinguish such information from other comments and clearly label it as CBI. Send submissions containing such proprietary information directly to the following address, and not to the public docket, to ensure that proprietary information is not inadvertently placed in the docket: OAQPS Document Control Officer, C404-02, Attention: Mr. Phil Mulrine, U.S. EPA, Research Triangle Park, NC 27711. The EPA will disclose information identified as CBI only to the extent allowed by the procedures set forth in 40 CFR part 2. If no claim of confidentiality accompanies a submission when it is received by EPA, the information may be made available to the public without further notice to the commenter.

Docket. Information related to the proposed standards is available for inspection at the Air and Radiation Docket and Information Center, Docket No. A-88-02. The docket is located at the U.S. EPA, 1301 Constitution Avenue, NW., Room Number Bl08, Washington, DC 20460, telephone (202) 566-1742. The docket is available for public inspection and copying between 8 a.m. and 5:30 p.m., Monday through Friday, excluding legal holidays. A reasonable fee may be charged for copying.

FOR FURTHER INFORMATION CONTACT: Mr. Phil Mulrine, Metals Group, Emission Standards Division, C439-02, U.S. EPA, Research Triangle Park, North Carolina 27711; telephone number (919) 541-5289; facsimile number (919) 541-5450; electronic mail address mulrine.phil@epa.gov.

List of Subjects in 40 CFR Part 63

Environmental protection, Administrative practice and procedure, Air pollution control, Hazardous substances, Intergovernmental relations, Recordkeeping and reporting requirements.

Dated: November 8, 2002.
Robert Brenner,
Acting Assistant Administrator for Air and Radiation.

[FR Doc. 02-29334 Filed 11-18-02; 8:45 am]

BILLING CODE 6560-50-P